DEPARTMENT OF TRANSPORTATION

Pipeline and Hazardous Materials Safety Administration

Notice of Application for Special Permits

AGENCY: Office of Hazardous Materials Safety, Pipeline and Hazardous Materials Safety Administration (PHMSA), DOT.

ACTION: List of Applications for Special Permits

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 5, 2014.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on April 23, 2014.
Donald Burger,
Chief, General Approvals and Permits.

New Special Permits
Application No. | Docket No. | Applicant | Regulation(s) affected | Nature of special permit thereof
16114-N |  | Global Nuclear Fuel-Americas, LLC, Wilmington, NC | 49 CFR 173.410 and 173.417 | To authorize the transportation in commerce of fissile uranium hexafluoride in alternative packaging shipped pursuant to US DOT CoC USA/0411/AF for repairs. (mode 1).
16116-N |  | Commercial Body & Rigging, Dallas, TX | 49 CFR 173.202, 173.203, 173.241, 173.242 | To authorize the manufacture, marking, and sale, and use of non-DOT specification containers, manifolded together within a frame and securely mounted on a truck chassis, for the transportation in commerce of Class 3, Division 6.1, and Class 8 materials. (mode 1).
16118-N |  | Toyota Motor Sales, U.S.A., Inc., Torrance, CA | 49 CFR 173.301(a)(1) | To authorize the transportation in commerce of Hydrogen, compressed in non-DOT specification pressure containers. (modes 1, 2, 3, 4).
16119-N |  | Pathfinder Aviation, Inc., Homer, AK | 49 CFR § 172.101 Column (9B), § 172.204(c)(3), § 173.27(b)(2), § 175.30(a)(1), §§ 172.200, 172300, 172.400, 173.302(f)(3) and § 175.75 | To transport in commerce of certain hazardous materials by cargo aircraft including 14CFR Part 133 Rotorcraft External Load operations, in remote areas of the US only, without being subject to hazard communication requirements, quantity limitations and certain loading and stowage requirements. (mode 4).
16121-N |  | U.S. Department of Defense (DOD), Scott AFB, IL | 49 CFR 171.23(a) Packaging Instruction 200 of ICAO and P200 of IMDG | To authorize the and transportation in commerce of certain composite fiberglass wrapped stainless steel high pressure cylinders containing argon, compressed. (modes 1, 2, 3, 4, 5).
16122-N |  | ATK, Corinne, UT | 49 CFR 172.320, 173.54(a), 173,56(b), 175.57, 173.58 and 173.60 | To authorizes the transportation in commerce of not more than 25 grams of Division 1.4 materials and pyrotechnic materials in a special shipping container. (modes 1, 3, 4).
16126-N |  | Raytheon Missile Systems, Tucson, AZ | 49 CFR 173.62 | To authorize the transportation in commerce of certain Cartridges, power device in UN50B large packaging. (mode 1).
16128-N |  | L-3/Mustang Technology, Plano, TX | 49 CFR § 172.320, 173.54(a), 173.56(b), 173.57, 173.58 and § 173.60 | To authorize the transportation in domestic and foreign commerce of not more than 25 grams of solid explosive or pyrotechnic material, including waste containing explosives that has energy density not significantly greater than that of pentaerythritol tetranitrate, classed as Division 1.4E, when packed in a special shipping container. (modes 1, 2, 3, 4).
16129-N |  | Ryan Air Inc., Anchorage, AK | 49 CFR 172.101 Column (9B) and § 172.62(c) | To authorize the transportation in commerce of certain Class 1 explosive materials which are forbidden for transportation by air, to be transported by cargo aircraft Within the State of Alaska when other Means of transportation are impracticable or not available. (mode 4).
16130-N |  | The Federal Bureau of Investigation (FBI), Quantico, VA | 49 CFR 173.21(i) | To authorize the transportation in commerce of lighters without LA approvals for law enforcement purposes. (modes 1, 4).
16133-N |  | Cryovat International BV (The Rootselaar Group) | 49 CFR 178.274(b) and 178.277(b)(1) | To authorize the manufacture, marking, sale and use of UN portable tanks conforming to portable tank code T75 that have been designed, constructed and stamped in accordance with the latest edition of Section VIII, Division 1 of the AWE Code With a design margin of 3.5:1 (modes 1, 2, 3).
16140-N |  | ERA Helicopters LLC, Lake Charles, LA | 49 CFR 172.101 Table Column (9A) | To authorize the transportation in commerce of certain hazardous materials which exceed the authorized quantity limitations for passenger-carrying aircraft. (mode 5).

[FR Doc. 2014-10073 Filed 5-5-14; 8:45 am]

BILLING CODE 4909-60-M